DEPARTMENT OF HEALTH AND HUMAN SERVICES

Centers for Disease Control and Prevention

Meetings of the Advisory Committee for Injury Prevention and Control (ACIPC), and Its Subcommittee, the Science and Program Review Subcommittee

In accordance with Section 10(a)(2) of the Federal Advisory Committee Act (Pub. L. 92-463), the Centers for Disease Control and Prevention (CDC) announces the following meetings of the aforementioned subcommittee and committee.

Name: Science and Program Review Subcommittee (SPRS).

Times and Date: 10:30 a.m.-10:45 a.m., July 12, 2007 (Open). 10:45 a.m.-2:45 p.m., July 12, 2007 (Closed).

Place: Koger Center, Yale Building, Room 1081, 2945 Flowers Road, South, Atlanta, GA 30341.

Purpose: The Science and Program Review Subcommittee provides advice on the needs, structure, progress and performance of programs of the National Center for Injury Prevention and Control (NCIPC).

Matters To Be Discussed: The subcommittee will meet July 12, 2007, to provide a secondary review of, discuss, and evaluate the individual research grant and cooperative agreement applications submitted in response to two Fiscal Year 2007 Requests for Applications (RFAs) related to the following individual research announcements: 07002, Family and Dyadic Focused Interventions to Prevent Intimate Partner Violence; 07003, Maximizing Protective Factors for Youth Violence; 07004, Abusive Head Trauma Prevention; 07005, Understanding Bullying and Sexual Violence Perpetration and Factors Associated with Both Outcomes; 07006, Grants for Traumatic Injury Biomechanics Research; 07007, Dissemination Research on Fall Prevention: “Stepping On” in a U.S. Community Setting; and 07008, The Impact of Traumatic Brain Injury Among Incarcerated Persons. Following this meeting, the voting members of ACIPC will meet via teleconference to vote on the recommendations of the SPRS regarding the RFAs. This call will take place on July 12 from 3 p.m.-4:30 p.m.

Name: Advisory Committee for Injury Prevention and Control.

Times and Date: 3 p.m.-3:15 p.m., July 12, 2007 (Open). 3:15 p.m.-4:30 p.m., July 12, 2007 (Closed).

Place: Koger Center, Yale Building, Room 1081, 2945 Flowers Road, South, Atlanta, GA 30341.

Purpose: The committee advises and makes recommendations to the Secretary, Department of Health and Human Services, the Director, Centers for Disease Control and Prevention, and the Director, National Centers for Injury Prevention and Control regarding feasible goals for the prevention and control of injury. The committee makes recommendations regarding policies, strategies, objectives, and priorities, and reviews progress toward injury prevention and control.

Matters to be Discussed: Agenda items for the open portion include the call to order and introductions and request for public comments. Beginning at 3:15 p.m., July 12, 2007, through 4:30 p.m, during the closed portion, the Committee will vote on the results of the secondary review. This portion of the meeting will be closed to the public in accordance with the provisions set forth in section 552b(c)(4) and (b), title 5 U.S.C., and the Determination of the Acting Director, Management Analysis and Services Office, CDC pursuant to Pub L. 92-463.

Agenda items are subject to change as priorities dictate.

Contact Person for More Information: Ms. Amy Harris, Executive Secretary, ACIPC, NCIPC, CDC, 4770 Buford Highway, NE, M/S K61, Atlanta, Georgia 30341-3724, telephone (770) 488-4936.

The Director, Management Analysis and Services Office, has been delegated the authority to sign Federal Register notices pertaining to announcements of meetings and other committee management activities, for both CDC and the Agency for Toxic Substances and Disease Registry.

Dated: May 31, 2007.
Elaine L. Baker,
Acting Director, Management Analysis and Services Office, Centers for Disease Control and Prevention.

[FR Doc. E7-11555 Filed 6-14-07; 8:45 am]

BILLING CODE 4163-18-P